DEPARTMENT OF STATE

[Public Notice 3591]

Information Collection Under Emergency Review; Nonimmigrant V Visa Application

AGENCY: Department of State.

ACTION: Notice of information collection under emergency review: Nonimmigrant V Visa Application.

SUMMARY: The Department of State has submitted the following information collection request to the Office of Management and Budget (OMB) for review and approval in accordance with the emergency review procedures of the Paperwork Reduction Act of 1995.

Type of Request: New Information Collection.

Originating Office: Bureau of Consular Affairs, Department of State.

Title of Information Collection: Nonimmigrant V Visa Application.

Frequency: Once per respondent.

Respondents: Spouses and children of lawful permanent residents awaiting the approval of a visa petition, the availability of an immigrant visa, the issuance of an immigrant visa, or the approval of an application for adjustment of status, provided that the petitioner filed a petition before December 21, 2000 and that three years have passed since the petition was filed.

Estimated Number of Respondents: 300,000.

Average Hours Per Response: 1 hour.

Total Estimated Burden: 300,000 hours.

The proposed information collection is published to obtain comments from the public and affected agencies. Emergency review and approval of this collection has been requested from OMB by February 9, 2001. If granted, the emergency approval is valid only for 180 days. Comments should be directed to the State Department Desk Officer, Office of Information and Regulatory Affairs, Office of Management and Budget (OMB), Washington, DC 20530, (202) 395-5871.

During the first 60 days of this same period a regular review of this information collection is also being undertaken. Comments are encouraged and will be accepted until April 9, 2001. The agency requests written comments and suggestions from the public and affected agencies concerning the proposed collection of information. Your comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Eric Cohan of the Directorate for Visa Services, U.S. Department of State, Room L708, SA-1, Washington, DC 20520-0106, or by fax at (202) 663-3897.

Dated: February 2, 2001.
Linda Donahue,
Acting Deputy Assistant Secretary of State for Visa Services, Bureau of Consular Affairs, U.S. Department of State.

[FR Doc. 01-4990 Filed 2-28-01; 8:45 am]

BILLING CODE 4710-06-P